DEPARTMENT OF HOMELAND SECURITY

Coast Guard

33 CFR Parts 154 and 155

[USCG-2001-8661]

RIN 1625-AA26

Vessel and Facility Response Plans for Oil: 2003 Removal Equipment Requirements and Alternative Technology Revisions

AGENCY: Coast Guard, DHS.

ACTION: Rule; information collection approval.

SUMMARY: On August 31, 2009, the Coast Guard amended its requirements for oil-spill removal equipment associated with vessel response plans and marine transportation-related facility response plans. The amendment triggered information collection requirements affecting vessel response planholders required to establish evidence that they have properly planned to mitigate oil outflow and to provide that information to the Coast Guard for its use in emergency response. This notice announces that the collection of information has been approved by the Office of Management and Budget (OMB) and may now be enforced. The OMB Control Number is 1625-0066.

DATES: The collection of information requirements under 33 CFR 154.1065 and 155.1070 will be enforced beginning September 3, 2010.

FOR FURTHER INFORMATION CONTACT: If you have questions on this document, contact Lieutenant Commander Ryan Allain at 202-372-1226 or Ryan.D.Allain@uscg.mil. If you have questions on viewing the docket (USCG-2001-8661), call Ms. Renee V. Wright, Program Manager, Docket Operations, telephone 202-366-9826.

SUPPLEMENTARY INFORMATION: On August 31, 2009, the Coast Guard published a final rule entitled “Vessel and Facility Response Plans for Oil: 2003 Removal Equipment Requirements and Alternative Technology Revisions” (74 FR 45004). This final rule amended its requirements for oil-spill removal equipment associated with vessel response plans and marine transportation-related facility response plans. Those updates were based on a review of those requirements conducted by the Coast Guard pursuant to its regulations. The changes added requirements for new response technologies and revised methods and procedures for responding to oil spills upon the navigable waters of the United States, adjoining shorelines, and the exclusive economic zone. Those revisions triggered information collection requirements under 33 CFR 154.1065 and 155.1070. This provision requires that planholders show evidence that they have properly planned to mitigate oil outflow and to provide that information to the Coast Guard for its use in emergency response. This evidence includes name and contact information for oil spill responders for each vessel or facility with appropriate equipment and resources located in each zone of operation; specific lists of equipment that the resource providers will make available in case of an incident in each zone; and certification that the responders are qualified and have given permission to be included in the plan. Oil Spill Removal Organizations (ORSOs) will also need to update contracts and their own records to add dispersant capabilities when appropriate. The Coast Guard will use this information to determine whether a vessel or facility meets the salvage and marine firefighting requirements.

With the exception of this collection of information, the Vessel and Facility Response Plans for Oil: 2003 Removal Equipment Requirements and Alternative Technology Revisions final rule became effective on September 30, 2009. As required by the Paperwork Reduction Act of 1995 (44 U.S.C. 3501-3520), the preamble to the final rule stated that the Coast Guard would not enforce the collection of information requirements occurring under 33 CFR 154.1065 and 155.1070 until the collection of information request was approved by OMB, and also stated that the Coast Guard would publish a notice in the Federal Register announcing that OMB approved and assigned a control number for the requirement.

The Coast Guard submitted the information collection request to OMB for approval in accordance with the Paperwork Reduction Act of 1995. On August 20, 2010, OMB approved the collection of information and assigned the collection OMB Control Number 1625-0066 entitled “Vessel and Facility Response Plans (Domestic and Int'l), and Additional Response Requirements for Prince William Sound, Alaska”. The approval for this collection of information expires on August 31, 2013. A copy of the OMB notice of action is available in our online docket at http://www.regulations.gov.

Dated: August 30, 2010.
J.G. Lantz,
Director of Commercial Regulations and Standards, U.S. Coast Guard.

[FR Doc. 2010-22026 Filed 9-2-10; 8:45 am]

BILLING CODE 9110-04-P